DEPARTMENT OF THE INTERIOR

National Park Service

[NPS-WASO-NAGPRA-17699: PPWOCRADN0-PCU00RP14.R50000]

Notice of Intent To Repatriate Cultural Items: Arizona State Museum, University of Arizona, Tucson, AZ

AGENCY: National Park Service, Interior.

ACTION: Notice.

SUMMARY: The Arizona State Museum, University of Arizona in consultation with the appropriate Indian tribes or Native Hawaiian organizations, has determined that the cultural items listed in this notice meet the definition of unassociated funerary objects. Lineal descendants or representatives of any Indian tribe or Native Hawaiian organization not identified in this notice that wish to claim these cultural items should submit a written request to the Arizona State Museum, University of Arizona. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Arizona State Museum, University of Arizona at the address in this notice by May 1, 2015.

ADDRESSES: John McClelland, NAGPRA Coordinator, Arizona State Museum, University of Arizona, P.O. Box 210026, Tucson, AZ 85721, telephone (520) 626-2950.

SUPPLEMENTARY INFORMATION: Notice is here given in accordance with the Native American Graves Protection and Repatriation Act (NAGPRA), 25 U.S.C. 3005, of the intent to repatriate cultural items under the control of the Arizona State Museum, University of Arizona that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1933-1934, 10 cultural items were removed from Tuzigoot Pueblo, AZ N:4:1(ASM), in Yavapai County, AZ. The excavations were conducted by University of Arizona graduate students Louis Caywood and Edward Spicer. The cultural items were found in association with human burials, but the human remains were not collected. The collection was accessioned by the Arizona State Museum in 1934. The 10 unassociated funerary objects are 1 animal bone awl, 3 ceramic bowls, 2 macaw bones, 1 shell bracelet, and 3 shell tinklers.

In 1933-1934, two cultural items were removed from Hatalacva Pueblo, AZ N:4:3(ASM), in Yavapai County, AZ. The excavations were conducted by University of Arizona graduate students Louis Caywood and Edward Spicer. The cultural items were found in association with human burials, but the human remains were not collected. The collection was accessioned by the Arizona State Museum in 1934. The two unassociated funerary objects are one ceramic jar and one shell pendant.

Tuzigoot Pueblo is a large pueblo with more than 100 rooms, which is classified by archeologists as Southern Sinagua, Honanki and Tuzigoot phases. Occupation dates range from A.D. 1125 to A.D. 1425. Hatalacva Pueblo is a small, multi-room pueblo near Tuzigoot National Monument, also classified as Southern Sinagua, Honanki and Tuzigoot phases.

The Ak Chin Indian Community of the Maricopa (Ak Chin) Indian Reservation, Arizona; Gila River Indian Community of the Gila River Indian Reservation, Arizona; Salt River Pima-Maricopa Indian Community of the Salt River Reservation, Arizona; and the Tohono O'odham Nation of Arizona comprise one cultural group known as the O'odham. Material culture items found at the sites, including associated funerary objects, demonstrate continuity between the people of Tuzigoot and Hatalacva pueblos and the O'odham. These items include plain woven textiles, coiled basketry, and twill matting that display similar design motifs and construction styles as historic and contemporary O'odham items. Additionally, locally made plainware ceramics are similar in construction and appearance to plainware ceramics made in lands attributed to the Hohokam archeological culture, commonly considered to be ancestral O'odham. Consultation with O'odham tribes also indicates that oral traditions exist that describe ancestral O'odham people living in the Verde Valley.

The Fort McDowell Yavapai Nation, Arizona, traces ancestry to Yavapai bands once living in the Verde Valley. Consultation with Yavapai tribes indicates the existence of specific ancestral names for the Tuzigoot and Hatalacva sites and a belief that ancestors lived near the sites. Archeological sites identified as Yavapai have also been found near the Tuzigoot and Hatalacva Pueblos. Material culture items found at Hatalacva and Tuzigoot, including basketry and turquoise pendants, are similar in construction and appearance to historic Yavapai items. Additionally, Hatalacva and Tuzigoot are identified as being within the Yavapai traditional lands.

The Hopi Tribe of Arizona considers all of Arizona to be within traditional Hopi lands or within areas where Hopi clans migrated in the past. Evidence demonstrating continuity between the people of Tuzigoot and Hatalacva Pueblos and the Hopi Tribe includes archeological, anthropological, linguistic, folkloric and oral traditions. Ceramic vessels made only on the Hopi mesas as well as plain woven and painted textiles, coiled basketry, and woven matting demonstrate continuity between Tuzigoot, Hatalacva, and Hopi people. Burial patterns noted at Tuzigoot are also similar in appearance to burials at other ancestral Hopi sites. During consultation, Hopi clan members also identified ancestral names and traditional stories about specific events and ancestral people at each site.

The Yavapai-Prescott Indian Tribe (previously listed as the Yavapai-Prescott Tribe of the Yavapai Reservation, Arizona) traces ancestry to Yavapai bands once living in the Verde Valley. Consultation with Yavapai tribes indicates the existence of specific ancestral names for the Tuzigoot and Hatalacva sites and a belief that ancestors lived near the sites. Archeological sites identified as Yavapai have also been found in and near the Tuzigoot and Hatalacva Pueblos. Material culture items found at Tuzigoot and Hatalacva including basketry, turquoise pendants, and twill matting, are similar in construction and appearance to historic Yavapai items. Additionally, Tuzigoot and Hatalacva are identified as being within the Yavapai traditional lands.

The Zuni Tribe of the Zuni Reservation, New Mexico, considers the Verde Valley to be within the migration path of ancestral Zuni people. Archeological evidence demonstrates continuity between the people of Tuzigoot and Hatalacva Pueblos and the people of Zuni. Material culture items, such as ceramic designs, textiles, and woven basketry, are similar in appearance and construction to historic Zuni items.

Determinations Made by the Arizona State Museum, University of Arizona

Officials of the Arizona State Museum, University of Arizona have determined that:

• Pursuant to 25 U.S.C. 3001(3)(B), the 12 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Ak Chin Indian Community of the Maricopa (Ak Chin) Indian Reservation, Arizona; Fort McDowell Yavapai Nation, Arizona; Gila River Indian Community of the Gila River Indian Reservation, Arizona; Hopi Tribe of Arizona; Salt River Pima-Maricopa Indian Community of the Salt River Reservation, Arizona; Tohono O'odham Nation of Arizona; Yavapai-Prescott Indian Tribe (previously listed as the Yavapai-Prescott Tribe of the Yavapai Reservation, Arizona); and Zuni Tribe of the Zuni Reservation, New Mexico.

Additional Requestors and Disposition

Lineal descendants or representatives of any Indian tribe or Native Hawaiian organization not identified in this notice that wish to claim these cultural items should submit a written request with information in support of the claim to John McClelland, NAGPRA Coordinator, Arizona State Museum, University of Arizona, P.O. Box 210026, Tucson, AZ 85721, telephone (520) 626-2950, by May 1, 2015. After that date, if no additional claimants have come forward, transfer of control of the unassociated funerary objects to the Ak Chin Indian Community of the Maricopa (Ak Chin) Indian Reservation, Arizona; Fort McDowell Yavapai Nation, Arizona; Gila River Indian Community of the Gila River Indian Reservation, Arizona; Hopi Tribe of Arizona; Salt River Pima-Maricopa Indian Community of the Salt River Reservation, Arizona; Tohono O'odham Nation of Arizona; Yavapai-Prescott Indian Tribe (previously listed as the Yavapai-Prescott Tribe of the Yavapai Reservation, Arizona); and Zuni Tribe of the Zuni Reservation, New Mexico, may proceed.

The Arizona State Museum is responsible for notifying the Ak Chin Indian Community of the Maricopa (Ak Chin) Indian Reservation, Arizona; Fort McDowell Yavapai Nation, Arizona; Gila River Indian Community of the Gila River Indian Reservation, Arizona; Hopi Tribe of Arizona; Salt River Pima-Maricopa Indian Community of the Salt River Reservation, Arizona; Tohono O'odham Nation of Arizona; Yavapai-Prescott Indian Tribe (previously listed as the Yavapai-Prescott Tribe of the Yavapai Reservation, Arizona); and Zuni Tribe of the Zuni Reservation, New Mexico, that this notice has been published.

Dated: February 17, 2015.
Melanie O'Brien,
Acting Manager, National NAGPRA Program.

[FR Doc. 2015-07399 Filed 3-31-15; 8:45 am]

BILLING CODE 4312-50-P